DEPARTMENT OF AGRICULTURE

5 CFR Part 8301

RIN 3209-AA15

Supplemental Standards of Ethical Conduct for Employees of the Department of Agriculture; Correction

AGENCY: Department of Agriculture (USDA).

ACTION: Final rule; correction.

SUMMARY: In this document, the Department of Agriculture, with the concurrence of the Office of Government Ethics (OGE), is correcting a typographical error in one of the amendatory instructions of the final rule amendments to the supplemental standards of ethical conduct for USDA employees, which was published by the USDA in the Federal Register on Monday, September 16, 2002 (67 FR 58319).

EFFECTIVE DATE: September 16, 2002.

FOR FURTHER INFORMATION CONTACT: Raymond J. Sheehan, Director, Office of Ethics, U.S. Department of Agriculture, Room 348-W-Stop 0122, 1400 Independence Avenue, SW., Washington, DC 20250-0122, telephone: (202) 720-2251.

SUPPLEMENTARY INFORMATION: In the above-noted final rule amendments document published by the USDA, with OGE concurrence, the beginning of amendatory instruction 2.e. inadvertently omitted the words “Removing the” before the paragraph reference identified therein which was being replaced by a redesignated paragraph reference. This document corrects the error in amendatory instruction 2.e.

Dated: October 15, 2002.
John S. Surina,
Designated Agency Ethics Official, U.S. Department of Agriculture.
Approved: October 28, 2002.
Stuart D. Rick,
Deputy General Counsel, Office of Government Ethics.

For the reasons set forth in the preamble, the Department of Agriculture, with the concurrence of the Office of Government Ethics, is correcting the September 16, 2002, publication of the final rule amendments on Supplemental Standards of Ethical Conduct for Employees of the Department of Agriculture, which was the subject of FR Doc. 02-23489, as follows:

PART 8301—[CORRECTED]

§ 8301.103 [Corrected]

On page 58319, in the third column, the beginning of the first line of amendatory instruction 2.e., is corrected by removing the word “Paragraph” and adding in this place the words “Removing the paragraph”.

[FR Doc. 02-27989 Filed 11-1-02; 8:45 am]

BILLING CODE 3410-01-M